INTERNATIONAL TRADE COMMISSION

[Investigation Nos. 701-TA-647 and 731-TA-1517-1520 (Final)]

Passenger Vehicle and Light Truck Tires From Korea, Taiwan, Thailand, and Vietnam

Determinations

On the basis of the record ¹ developed in the subject investigations, the United States International Trade Commission (“Commission”) determines, pursuant to the Tariff Act of 1930 (“the Act”), that an industry in the United States is materially injured by reason of imports of passenger vehicle and light truck tires (“PVLT tires”), provided for in subheadings 4011.10.10, 4011.10.50, 4011.20.10, and 4011.20.50 of the Harmonized Tariff Schedule of the United States, that have been found by the U.S. Department of Commerce (“Commerce”) to be sold in the United States at less than fair value (“LTFV”) from Korea, Taiwan, and Thailand, and to be subsidized by the government of Vietnam.² The Commission further found that imports of these products from Vietnam that Commerce has determined are sold in the United States at less than fair value are negligible and terminates the antidumping duty investigation concerning Vietnam.

¹ The record is defined in § 207.2(f) of the Commission's Rules of Practice and Procedure (19 CFR 207.2(f)).

² Commissioner David S. Johanson dissenting.

Background

The Commission instituted these investigations effective May 13, 2020, following receipt of petitions filed with the Commission and Commerce by United Steel, Paper and Forestry, Rubber, Manufacturing, Energy, Allied Industrial and Service Workers International Union, AFL-CIO, CLC (“USW”), Pittsburgh, Pennsylvania. The final phase of the investigations was scheduled by the Commission following notification of preliminary determinations by Commerce that imports of PVLT tires from Vietnam were subsidized within the meaning of section 703(b) of the Act (19 U.S.C. 1671b(b)), and that imports of PVLT tires from Korea, Taiwan, Thailand, and Vietnam were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on January 29, 2021 (86 FR 7561). In light of the restrictions on access to the Commission building due to the COVID-19 pandemic, the Commission conducted its hearing through written testimony and video conference on May 25, 2021. All persons who requested the opportunity were permitted to participate.

The Commission made these determinations pursuant to §§ 705(b) and 735(b) of the Act (19 U.S.C. 1671d(b) and 19 U.S.C. 1673d(b)). It completed and filed its determinations in these investigations on July 12, 2021. The views of the Commission are contained in USITC Publication 5212 (July 2021), entitled Passenger Vehicle and Light Truck Tires from Korea, Taiwan, Thailand, and Vietnam: Investigation Nos. 701-TA-647 and 731-TA-1517-1520 (Final).

By order of the Commission.
Issued: July 12, 2021.
Lisa Barton,
Secretary to the Commission.

[FR Doc. 2021-15108 Filed 7-15-21; 8:45 am]

BILLING CODE 7020-02-P